DEPARTMENT OF COMMERCE

International Trade Administration

[A-412-822]

Stainless Steel Bar From the United Kingdom: Notice of Extension of Time Limit for Preliminary Results of the 2005-2006 Administration Review

AGENCY: Import Administration, International Trade Administration, Department of Commerce.

EFFECTIVE DATE: October 16, 2006.

FOR FURTHER INFORMATION CONTACT: Rebecca Trainor or Kate Johnson, AD/CVD Operations, Office 2, Import Administration, International Trade Administration, U.S. Department of Commerce, 14th Street and Constitution Avenue, NW, Washington, DC 20230; telephone (202) 482-4007 or (202) 482-4929, respectively.

SUPPLEMENTARY INFORMATION:

Background

On April 28, 2006, the Department of Commerce (“Department”) published in the Federal Register a notice of initiation of administrative review of the antidumping duty order on stainless steel bar from the United Kingdom, covering the period March 1, 2005, through February 28, 2006. See Initiation of Antidumping and Countervailing Duty Administrative Reviews, 71 FR 25145 (April 28, 2006). The preliminary results for this administrative review are currently due no later than December 1, 2006.

Statutory Time Limits

Section 751(a)(3)(A) of the Tariff Act of 1930, as amended (“the Act”), requires the Department to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Extension of Time Limit for Preliminary Results

The Department is in the process of collecting additional information and clarifications of submitted data from the respondent. Furthermore, we require additional time to conduct verifications. Thus, it is not practicable to complete this review within the original time limit (i.e., 245 days). Therefore, the Department is extending the time limit for completion of the preliminary results by 120 days, in accordance with section 751(a)(3)(A) of the Act. The preliminary results are now due not later than March 30, 2007. The final results continue to be due 120 days after publication of the preliminary results.

We are issuing and publishing this notice in accordance with sections 751(a)(1) and 777(i)(1) of the Act.

Dated: October 6, 2006.
Stephen J. Claeys,
Deputy Assistant Secretary for Import Administration.

[FR Doc. E6-17129 Filed 10-13-06; 8:45 am]

BILLING CODE 3510-DS-S